DEPARTMENT OF AGRICULTURE

Submission for OMB Review; Comment Request

May 19, 2017.

The Department of Agriculture has submitted the following information collection requirement(s) to OMB for review and clearance under the Paperwork Reduction Act of 1995, Public Law 104-13. Comments are requested regarding (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding this information collection received by June 23, 2017 will be considered. Written comments should be addressed to: Desk Officer for Agriculture, Office of Information and Regulatory Affairs, Office of Management and Budget (OMB), New Executive Office Building, 725 17th Street NW., Washington, DC 20502. Commenters are encouraged to submit their comments to OMB via email to: OIRA_Submission@OMB.EOP.GOV or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal and Plant Health Inspection Service

Title: Importation of Horses, Ruminants, Swine, and Dogs; Inspection and Treatment for Screwworm

OMB Control Number: 0579-0165.

Summary of Collection: The Animal Health Protection Act (AHPA) of 2002 is the primary Federal law governing the protection of animal health. The law gives the Secretary of Agriculture broad authority to detect, control, or eradicate pests or diseases of livestock or poultry. The AHPA is contained in Title X, Subtitle E, Section 10401-18 of Public Law 107-171, May 13, 2002, of the Farm Security and Rural Investment Act of 2002. The regulations under which the Animal and Plant Health Inspection Service (APHIS) conduct disease prevention activities are contained in Title 9, Chapter 1, Subchapter D, parts 91 through 99 of the Code of Federal Regulations. These regulations govern the importation of animals, birds and poultry, certain animal and poultry products, and animal germplasm. Screwworm is a pest native to tropical areas of South America, the Indian subcontinent, Southeast Asia, tropical and sub-Saharan Africa, and the Arabian Peninsula. It causes extensive damage to livestock and other warm-blooded animals. APHIS regulations require that horses, ruminants, swine, and dogs imported into the United States from regions of the world where screwworm is known to exist be inspected and, if necessary, treated for screwworm infestation.

Need and Use of the Information: APHIS requires the following documents to import horses, ruminants, swine, and dogs from regions where screwworm is known to exist: (1) An application for import or in-transit permit (VS Form 17-129); (2) a health certificate signed by a Federal veterinarian of the exporting country; (3) a declaration of importation with the importer, broker, and final destination information (VS Form 17-29); and (4) a quarantine reservation. If the information is not collected, APHIS would not be able to ensure horses, ruminants, swine, and dogs imported into the United States are not infested with screwworm.

Description of Respondents: Business or other for-profit; Federal Government.

Number of Respondents: 92.

Frequency of Responses: Reporting: On occasion.

Total Burden Hours: 827.

Ruth Brown,
Departmental Information Collection Clearance Officer.

[FR Doc. 2017-10608 Filed 5-23-17; 8:45 am]

BILLING CODE 3410-34-P